DEPARTMENT OF COMMERCE

National Oceanic and Atmospheric Administration

Mid-Atlantic Fishery Management Council; Public Meeting

AGENCY: National Marine Fisheries Service (NMFS), National Oceanic and Atmospheric Administration (NOAA), Commerce.

ACTION: Notice of a public meeting.

SUMMARY: The Mid-Atlantic Fishery Management Council's (Council) River Herring and Shad (RH/S) Advisory Panel (AP) will meet to develop recommendations for the 2015 RH/S Cap on the Atlantic mackerel fishery and provide general input on RH/S conservation.

DATES: The meeting will be Friday, June 6, 2014 at 1:30 p.m.

ADDRESSES: The meeting will be held via webinar, but anyone can also attend at the Council office address (see below). The webinar link is: http://mafmc.adobeconnect.com/rhsap/. Please call the Council in advance if you wish to attend at the Council office.

Council address: Mid-Atlantic Fishery Management Council, 800 N. State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: The Council's River Herring and Shad (RH/S) Advisory Panel (AP) will meet to develop recommendations for the 2015 RH/S Cap on the Atlantic mackerel fishery and provide general input on RH/S conservation. There will also be time for public questions and comments. The Council will utilize the input of the RH/S AP at the June 2014 Council meeting when setting the 2015 RH/S Cap on the Atlantic mackerel fishery.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids or assistance should be directed to M. Jan Saunders at the Mid-Atlantic Council Office, (302) 526-5251, at least 5 days prior to the meeting date.

Dated: May 15, 2014.
Tracey L. Thompson,
Acting Deputy Director, Office of Sustainable Fisheries, National Marine Fisheries Service.

[FR Doc. 2014-11631 Filed 5-19-14; 8:45 am]

BILLING CODE 3510-22-P